SURFACE TRANSPORTATION BOARD

[Docket No. FD 35571]

Amtrak's Petition for Determination of PRIIA Section 209 Cost Methodology

AGENCY: Surface Transportation Board.

ACTION: Adoption of methodology to establish and allocate costs for state-supported Amtrak routes.

SUMMARY: Notice is hereby given of the adoption of a methodology to establish and allocate costs for state-supported Amtrak routes. Amtrak developed this methodology in consultation with affected states, pursuant to Section 209 of the Passenger Rail Investment and Improvement Act of 2008 (PRIIA). Following consultations, the affected states agreed to adoption of the methodology, with the exception of Indiana. Indiana advised Amtrak that it did not accept the proposed methodology, but did not offer any explanation for its decision. In light of Indiana's decision, Amtrak subsequently filed its petition with the Board, seeking adoption of the methodology.

By decision served on March 15, 2012, the Board finds that the methodology meets the requirements of PRIIA Section 209(a) and should be implemented by Amtrak in accordance with PRIIA Section 209(c). The methodology is a single, nationwide standardized methodology for establishing and allocating the operating and capital costs among the states and Amtrak, associated with the trains operated on the routes subject to PRIIA Section 209(a). Upon review of the methodology and the facts and circumstances surrounding its development, the Board concludes that the methodology will: (1) Ensure equal treatment in the provision of like services of all states and groups of states; and (2) allocate to each route the costs incurred only for the benefit of that route and a proportionate share, based upon factors that reasonably reflect relative use, of costs incurred for the common benefit of more than one route. The decision will become effective on April 14, 2012. The entire Board decision is available on the Board's Web site at www.stb.dot.gov.

This decision will not significantly affect either the human environment or the conservation of energy resources.

Decided: March 13, 2012.
By the Board, Chairman Elliott, Vice Chairman Mulvey, and Commissioner Begeman.
Jeffrey Herzig,
Clearance Clerk.

[FR Doc. 2012-6604 Filed 3-19-12; 8:45 am]

BILLING CODE 4915-01-P